DEPARTMENT OF TRANSPORTATION

Federal Aviation Administration

14 CFR Part 71

Proposed Modification of the Chicago, IL, Class B Airspace Area; Public Meetings

AGENCY: Federal Aviation Administration (FAA), DOT.

ACTION: Supplemental notice of meetings.

SUMMARY: On July 30, 2008, a notice to conduct informal airspace meetings for the Chicago Class B airspace project was published in the Federal Register (73 FR 44311). Subsequent to publication, the FAA has had to change the venue of meetings 1 and 3, being held on September 23, 2008, and September 25, 2008, respectively. The address for both of these meetings has changed to Signature Flight Center Hangar, 1061 S. Wolf Road, Wheeling, IL 60090. The second meeting time and place remains as previously published.

DATES: The informal airspace meetings will be held on Tuesday, September 23, 2008, from 2 p.m.-7 p.m., Wednesday, September 24, 2008, from 10 a.m.-2 p.m., and Thursday, September 25, 2008, from 2 p.m.-7 p.m.

ADDRESSES: (1) The meeting on Tuesday, September 23, 2008, will be held at the Signature Flight Center hangar, 1061 S. Wolf Road, Wheeling, IL 60090. (2) The meeting on Wednesday, September 24, 2008, will be held at DuPage Flight Center, Chicago DuPage Airport, 2700 International Drive, West Chicago, IL 60185. (3) The meeting on Thursday, September 25, 2008, will be held at the Signature Flight Center hanger, 1061 S. Wolf Road, Wheeling, IL 60090.

FOR FURTHER INFORMATION CONTACT: Annette Davis, Support Specialist, Operations Support Group, Air Traffic Organization Central Service Area, 2601 Meacham Blvd, Fort Worth, TX 76137; Telephone (817) 222-5729.

SUPPLEMENTARY INFORMATION:

Background

On July 30, 2008, a notice of meetings was published in the Federal Register notifying the public of informal airspace meetings for the Chicago Class B airspace project (73 FR 44311). Subsequent to publication, the FAA learned that 2 of the meetings would have to be held at a different location. This action changes the venue of meetings 1 and 3 to the new locations.

Authority: 49 U.S.C. 106(g), 40103, 40113, 40120; E.O. 10854, 24 FR 9565, 3 CFR, 1959-1963 Comp., p.389.

Issued in Washington, DC, on August 27, 2008.
Edith V. Parish,
Manager, Airspace and Rules Group.

[FR Doc. E8-20438 Filed 9-3-08; 8:45 am]

BILLING CODE 4910-13-P